DEPARTMENT OF COMMERCE

National Oceanic and Atmospheric Administration

RIN 0648-XD433

Pacific Fishery Management Council; Public Meeting

AGENCY: National Marine Fisheries Service (NMFS), National Oceanic and Atmospheric Administration (NOAA), Commerce.

ACTION: Notice; public meeting.

SUMMARY: The Pacific Fishery Management Council's (Pacific Council) Salmon Technical Team (STT) and Model Evaluation Workgroup (MEW) will hold a webinar, which is open to the public.

DATES: The STT and the MEW will hold the webinar on Tuesday, September, 9, 2014, from 9 a.m. to 2 p.m. Pacific Time, or when business for the day is complete.

ADDRESSES: To attend the webinar, visit http://www.joinwebinar.com. Enter the webinar ID, which is 712-123-263, and your name and email address (required). Once you have joined the webinar, choose either your computer's audio or select “Use Telephone.” If you do not select “Use Telephone” you will be connected to audio using your computer's microphone and speakers (VolP). It is recommended that you use a computer headset as GoToMeeting allows you to listen to the meeting using your computer headset and speakers. If you do not have a headset and speakers, you may use your telephone for the audio portion of the meeting by dialing this TOLL number 1-415-363-0079 (not a toll-free number); phone audio access code 502-677-421; audio phone pin shown after joining the webinar. System Requirements for PC-based attendees: Required: Windows® 7, Vista, or XP; for Mac®-based attendees: Required: Mac OS® X 10.5 or newer; and for mobile attendees: iPhone®, iPad®, Android™ phone or Android tablet (See the GoToMeeting Webinar Apps). You may also send an email to Ms. Sandra Krause or contact her at (503) 820-2419 for technical assistance. A listening station will also be provided at the Pacific Council office.

Council address: Pacific Council, 7700 NE Ambassador Place, Suite 101, Portland, OR 97220-1384.

FOR FURTHER INFORMATION CONTACT: Mr. Mike Burner, Pacific Council, telephone: (503) 820-2414.

SUPPLEMENTARY INFORMATION: The STT and MEW will discuss items on the Pacific Council's September 2014 meeting agenda. Major topics include: Salmon Methodology Review, Lower Columbia Coho Harvest Matrix, and the Unmanaged Forage Fish Protection Initiative. The STT and MEW may also address one or more of the Pacific Council's scheduled Administrative Matters. Public comments during the webinar will be received from attendees at the discretion of the STT and MEW Chairs.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: August 18, 2014.
Tracey L. Thompson,
Acting Deputy Director, Office of Sustainable Fisheries, National Marine Fisheries Service.

[FR Doc. 2014-19853 Filed 8-20-14; 8:45 am]

BILLING CODE 3510-22-P